DEPARTMENT OF AGRICULTURE

Forest Service

North Wisconsin Resource Advisory Committee; Meeting

AGENCY: Forest Service, Agriculture (USDA).

ACTION: Notice of meetings.

SUMMARY: The North Wisconsin Resource Advisory Committee (RAC) will hold two public meetings according to the details shown below. The committee is authorized under the Secure Rural Schools and Community Self-Determination Act (the Act) and operates in compliance with the Federal Advisory Committee Act (FACA). The purpose of the committee is to improve collaborative relationships and to provide advice and recommendations to the Forest Service concerning projects and funding consistent with Title II of the Act as well as to make recommendations on recreation fee proposals for sites on the Chequamegon-Nicolet National Forest, consistent with the Federal Lands Recreation Enhancement Act. General information and meeting details can be found at the following website: https://www.fs.usda.gov/main/cnnf/workingtogether/advisorycommittees.

DATES: The meetings will be held on:

• Wednesday, May 3, 2023, 9 a.m.-3 p.m., Central Daylight Time, and

• Wednesday, May 17, 2023, 9 a.m.-3 p.m., Central Daylight Time

All RAC meetings are subject to cancellation. For status of the meetings prior to attendance, please contact the person listed under FOR FURTHER INFORMATION CONTACT.

Written Comments

Written comments may be submitted to the Forest Service up to 14 days after the meeting date(s) listed under in this section. Comments submitted after this date will be provided to Forest Service, but the RAC may not have adequate time to consider those comments prior to the meeting.

Oral Comments

Individuals wishing to make an oral statement should make a request in writing at least three days prior to the meeting date(s) (to be scheduled on that particular agenda).

Written comments and requests for time for oral comments must be sent to Penny McLaughlin, 500 Hanson Lake Road, Rhinelander, WI 54501 or by email to penny.mclaughlin@usda.gov.

All comments, including names and addresses when provided, are placed in the record and are available for public inspection and copying. The public may inspect comments received upon request.

ADDRESSES: These meetings are open to the public and will be held at the Rhinelander Supervisor's Office, 500 Hanson Lake Rd., Rhinelander, Wisconsin 54501. The public may also join virtually via telephone and/or video conference. Virtual meeting participation details can be found on the website listed under SUMMARY or by contacting the person listed under FOR FURTHER INFORMATION CONTACT.

FOR FURTHER INFORMATION CONTACT: Adam Felts, Designated Federal Officer (DFO), by phone at 715-362-1335 or email at adam.felts@usda.gov or Penny McLaughlin, RAC Coordinator, by email at penny.mclaughlin@usda.gov.

Individuals who use telecommunication devices for the deaf and hard of hearing (TDD) may call the Federal Relay Service (FRS) at 1-800-877-8339, 24 hours a day, every day of the year, including holidays.

SUPPLEMENTARY INFORMATION: The purpose of the meetings are to:

1. Elect a chairperson;

2. Hear from Title II project proponents and discuss Title II project proposals; and

3. Make funding recommendations on Title II projects.

The meetings are open to the public. The agendas will include time for individuals to make oral statements of three minutes or less.

Written comments and oral statements may be submitted as described under the DATES section. All comments, including names and addresses when provided, are placed in the record and are available for public inspection and copying. The public may inspect comments received upon request.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Equal opportunity practices in accordance with USDA's policies will be followed in all appointments to the Committee. To ensure that the recommendations of the Committee have taken into account the needs of the diverse groups served by USDA, membership shall include to the extent possible, individuals with demonstrated ability to represent minorities, women, and persons with disabilities. USDA is an equal opportunity provider, employer, and lender.

Dated: March 13, 2023.
Cikena Reid,
USDA Committee Management Officer.

[FR Doc. 2023-05450 Filed 3-16-23; 8:45 am]

BILLING CODE 3411-15-P